SECURITIES AND EXCHANGE COMMISSION

[File No. 500-1]

In the Matter of Calypte Biomedical Corporation, EC Development, Inc., and Information Architects Corporation (n/k/a Dakota Creative Group Corporation); Order of Suspension of Trading

February 20, 2015.

It appears to the Securities and Exchange Commission that there is a lack of current and accurate information concerning the securities of Calypte Biomedical Corporation because it has not filed any periodic reports since the period ended December 31, 2012.

It appears to the Securities and Exchange Commission that there is a lack of current and accurate information concerning the securities of EC Development, Inc. because it has not filed any periodic reports since the period ended September 30, 2012.

It appears to the Securities and Exchange Commission that there is a lack of current and accurate information concerning the securities of Information Architects Corporation (n/k/a Dakota Creative Group Corporation) because it has not filed any periodic reports since the period ended September 30, 2012.

The Commission is of the opinion that the public interest and the protection of investors require a suspension of trading in the securities of the above-listed companies. Therefore, it is ordered, pursuant to Section 12(k) of the Securities Exchange Act of 1934, that trading in the securities of the above-listed companies is suspended for the period from 9:30 a.m. EST on February 20, 2015, through 11:59 p.m. EST on March 5, 2015.

By the Commission.
Jill M. Peterson,
Assistant Secretary.

[FR Doc. 2015-03871 Filed 2-24-15; 8:45 am]

BILLING CODE 8011-01-P